DEPARTMENT OF STATE

[Public Notice 5645]

Bureau of Political-Military Affairs; Embargo on Arms Exports to Lebanon

AGENCY: Department of State.

ACTION: Notice.

SUMMARY: Notice is hereby given that all licenses and approvals to export or otherwise transfer defense articles and defense services to Lebanon pursuant to Section 38 of the Arms Export Control Act (AECA) are suspended, except those authorized by the Government of Lebanon or the United Nations Interim Force in Lebanon (UNIFIL). Further, effective immediately, it is the policy of the United States Government to deny all applications for license and other approvals to export or otherwise transfer defense articles and defense services to Lebanon, except those authorized by the Government of Lebanon or UNIFIL. On August 11, 2006, the United Nations Security Council voted unanimously to impose an embargo on the export of arms and related material, as well as defense services, to Lebanon.

DATES: Effective Date: December 15, 2006.

FOR FURTHER INFORMATION CONTACT: Mr. Stephen Tomchik, Office of Defense Trade Controls Policy, Department of State, Telephone (202) 663-2799, or FAX (202) 261-8199. ATTN: Lebanon Embargo, UNSCR 1701.

SUPPLEMENTARY INFORMATION: UN Security Council Resolution 1701 (UNSCR 1701) requires UN member states to implement an arms embargo on the export of arms and related material, as well as defense services, to Lebanon. The resolution enjoins all states to “take the necessary measures to prevent, by their nationals or from their territories or using their flag vessels or aircraft: (a) The sale or supply to any entity or individual in Lebanon of arms and related materiel of all types, including weapons and ammunition, military vehicles and equipment, paramilitary equipment, and spare parts for the aforementioned, whether or not originating in their territories; and (b) the provision to any entity or individual in Lebanon of any technical training or assistance related to the provision, manufacture, maintenance or use of [such] items.” The resolution establishes that “these prohibitions shall not apply to arms, related material, training or assistance authorized by the Government of Lebanon or by the United Nations Interim Force in Lebanon (UNIFIL).”

Consequently, effective immediately, it is the policy of the Department of State to deny all applications for licenses and other approvals to export or otherwise transfer defense articles and defense services to Lebanon except as provided for in UNSCR 1701 (2006), until further notice. An exception is made allowing for the export or transfer to Lebanon of defense articles and defense services when authorized by the Government of Lebanon or by UNIFIL in accordance with UNSCR 1701 (2006). In addition, U.S. manufacturers and exporters and any other affected parties (e.g., brokers) are hereby notified that the Department of State has suspended all licenses and approvals authorizing the export or other transfer of defense articles and defense services to Lebanon except those authorized by the Government of Lebanon or UNIFIL. The licenses and approvals that have been suspended include manufacturing licenses and technical assistance agreements involving Lebanon, including any agreement that has Lebanon as a sales territory, with the exclusion of those authorized by the Government of Lebanon or UNIFIL. This action also precludes the use in connection with Lebanon of any exemptions from licensing or other approval requirements included in the ITAR, until further notice, excluding 22 CFR 123.17. Holders of existing licenses or authorizations must submit documentation for review by the Directorate of Defense Trade Controls (DDTC) supporting the authorization of the transaction by the Government of Lebanon or UNIFIL. For future authorizations, exceptions to this policy of denial will be made, in accordance with the ITAR, on a case-by-case basis to determine whether they conform to UNSCR 1701.

United States compliance with UNSCR 1701 is implemented according to 22 CFR 126.1(c) of the International Traffic in Arms Regulations (ITAR) under the authority of the AECA.

This action has been taken pursuant to sections 38 and 42 of the AECA (22 U.S.C. 2778, 2791) and section 126.7 of the ITAR in furtherance of the foreign policy of the United States.

Dated: November 16, 2006.
Robert G. Joseph,
Undersecretary for Arms Control and International Security, Department of State.

[FR Doc. E6-21443 Filed 12-14-06; 8:45 am]

BILLING CODE 4710-25-P